DEPARTMENT OF THE INTERIOR

Bureau of Indian Affairs

[2341A2100DD/AAKC001030/A0A501010.999900]

Forthcoming FY 2024 NATIVE Act Tribal Tourism Cooperative Agreement

AGENCY: Bureau of Indian Affairs (BIA), Interior.

ACTION: Notice.

SUMMARY: The Office of the Assistant Secretary—Indian Affairs, through the Office of Indian Economic Development (OIED), will be soliciting proposals from Federally recognized Indian Tribes, Alaska Native Corporations, Native American Tribal Organizations, Tribal Colleges and Universities, and Native Hawaiian Organizations.

DATES: Proposals must be submitted to Grants.gov no later than 5 p.m. EST by the deadline indicated on Grants.gov.

ADDRESSES: Proposals must be submitted to https://www.Grants.gov.

FOR FURTHER INFORMATION CONTACT: Ms. Denise Litz, Division Chief, Division of Economic Development, Office of Indian Economic Development, telephone: (303) 710-0661; email: katharine.litz@bia.gov. If you have questions regarding the application process, please contact Ms. Jo Ann Metcalfe, Grant Officer, telephone (401) 703-3390; email jo.metcalfe@bia.gov. Individuals in the United States who are deaf, deafblind, hard of hearing, or have a speech disability may dial 711 (TTY, TDD, or TeleBraille) to access telecommunications relay services. Additional Program information can be found at: https://www.bia.gov/service/grants/ttgp.

SUPPLEMENTARY INFORMATION: This OIED announcement for the forthcoming FY 2024 NATIVE Act Tribal Tourism Cooperative Agreement Notice of Funding Opportunity (NOFO) is intended to give interested applicants time to prepare their applications prior to the opening of the application period. The OIED expects the official NOFO solicitation to run for approximately 90 days on Grants.gov, from June 30, 2023, through September 29, 2023, to receive applications. Additional information for the FY 2024 NATIVE Act Tribal Tourism Cooperative Agreement NOFO, as well as a link to the final NOFO posting on Grants.gov, will be available on OIED's website: Division of Economic Development | Indian Affairs (bia.gov).

The OIED will award one Cooperative Agreement for $2,000,000.00 in annual funding, for a five-year active period of performance. This opportunity supports the implementation of Section 4(d) of the Native American Tourism and Improving Visitor Experience Act (Pub. L. 114-221) (NATIVE Act) in partnership with the Federal government. The Department of the Interior, through Indian Affairs, has been engaged in significant regionally focused Tribal tourism efforts since the inception of the NATIVE Act. The NATIVE Act requires identification of a means for delivering and coordinating Federal technical assistance and resources in collaboration with Federal partners, including the Secretary of the Interior, Secretary of Commerce and other Federal agencies and entities with tourism expertise.

In 2019, the Bureau awarded a multi-year cooperative agreement which focused on strengthening collaboration and coordination of Federal assets and resources to build and promote Tribal travel and tourism capacity on Federal and Tribal lands. The awardee for this new solicitation will build upon past efforts and serve as the facilitator between the Secretary of the Interior, Secretary of Commerce, Federal agencies, Indian tribes, tribal organizations, and Native Hawaiian organizations. The awardee, through a cooperative agreement, will continue to build, enhance and expand Federal tribal tourism inclusive of technical assistance, assets, and other potential resources needed to empower tribes and organizations to participate fully in the tourism industry. In addition, the recipient of this award will support the Federal government-to-government relationships with Tribal governments.

The successful entity or organization will also support a five-zone implementation in Alaska, Hawaii, Southwest, Northwest, and Eastern zones. The five-zone approach may be implemented through sub-awards and partnerships with subject matter experts or consultants that may include, but are not limited to universities and colleges, private consulting firms, and non-academic non-profit entities.

While OIED will not accept applications at this time, interested applicants may submit questions to the program contacts. No project shall be funded that has comparable activities previously carried out under other Federal assistance programs. It is encouraged that applicants conduct the required registration activities for the System for Award Management (SAM), Unique Entity Identifier (UEI), and the Automated Standard Application for Payment (ASAP).

The required method of submitting proposals during the open solicitation period is through Grants.gov. For information on how to apply for grants in Grants.gov, see the instructions available at https://www.grants.gov/help/html/help/Applicants/HowToApplyForGrants.htm. Proposals must be submitted to Grants.gov no later than 5 p.m. EST by the deadline indicated on Grants.gov.

Eligible Applicants

Eligible applicants are Indian tribes and Tribal Organizations, as defined in Section 4 of the Indian Self-Determination and Education Assistance Act (ISDEAA) (25 U.S.C. 5304), including Tribal Consortia. Tribal Colleges and Universities are those institutions cited in section 532 of the Equity in Educational Land-Grant Status Act of 1994 (7 U.S.C. 301 note), any other institution that qualifies for funding under the Tribally Controlled Colleges and Universities Assistance Act of 1978 (25 U.S.C. 1801 et seq.), and Diné College, authorized in the Navajo Community College Act, Public Law 95-471, title II (25 U.S.C. 640a note). Native Hawaiian organization means a nonprofit organization: (A) that serves the interests of Native Hawaiians; (B) in which Native Hawaiians serve in substantive and policymaking positions, and; (C) that are recognized for having expertise in Native Hawaiian culture and heritage, including tourism. The cooperative agreement funding is to support the Native American Tourism and Improving Visitor Experience Act (Pub. L. 114-221) (NATIVE Act).

Bryan Newland,
Assistant Secretary—Indian Affairs.

[FR Doc. 2023-12680 Filed 6-13-23; 8:45 am]

BILLING CODE 4337-15-P